DEPARTMENT OF COMMERCE

Submission for OMB Review; Comment Request

The Department of Commerce (DOC) will submit to the Office of Management and Budget (OMB) for clearance the following proposal for collection of information under the provisions of the Paperwork Reduction Act (44 U.S.C. 3501 et seq.).

Agency: Economic Development Administration (EDA or Agency).

Title: Data Collection for Compliance with Government Performance and Results Act.

OMB Control Number: 0610-0098.

Form Number(s): ED-915, ED-916, ED-917, and ED-918.

Type of Review: Regular submission (extension of a currently approved information collection).

Number of Respondents: 1,530.

Average Hours per Response: 7 Hours 0 Minutes.

Burden Hours: 11,131 Hours.

Needs and Uses: In order to effectively administer and monitor its economic development assistance programs, and to comply with the requirements of the Government Performance and Results Act of 1993 (GPRA) (Pub. L. 103-62) and the GPRA Modernization Act of 2010 (Pub. L. 111-352), EDA must collect specific data from its grant recipients to report on the Agency's performance in meeting its stated goals and objectives. EDA collects performance data through a series of four program specific forms (information on EDA's Public Works, Economic Adjustment Assistance, and Revolving Loan Fund programs are collected via Form ED-915; information from Economic Development Districts and Indian Tribes are collected via the ED-916; University Centers are required to report on the ED-917; and Trade Adjustment Assistance Centers are required to fill out an ED-918) that ask respondents to report on items such as the number of jobs created and retained as well as the private investment generated per EDA investment.

Affected Public: State, local and tribal governments; Economic Development Districts; institutions of higher education; and not-for-profit organizations.

Frequency: Annual.

Respondent's Obligation: Mandatory.

This information collection request may be viewed at reginfo.gov. Follow the instructions to view DOC collections currently under review by OMB.

Written comments and recommendations for the proposed information collection should be sent within 30 days of publication of this notice to OIRA_Submission@omb.eop.gov or faxed to (202) 395-5806.

Sheleen Dumas,
Departmental PRA Lead, Office of the Chief Information Officer.

[FR Doc. 2017-16653 Filed 8-7-17; 8:45 am]

BILLING CODE 3510-24-P